DEPARTMENT OF TRANSPORTATION

Federal Aviation Administration

Public Notice for a Change in Use of Aeronautical Property at Manchester Airport, Manchester, NH

AGENCY: Federal Aviation Administration (FAA), DOT.

ACTION: Request for public comments.

SUMMARY: The FAA is requesting public comment on the City of Manchester, New Hampshire's request to change a portion (1 acre) of Airport property from aeronautical use to non-aeronautical use. The property is located off Harvey Road and Planeview Drive, Londonderry, New Hampshire, Identified as Tax Map 14/Lot17-2 and is currently vacant. Upon disposition is the property will be used for industrial development. The property was acquired under FAAP Project No. 9-27-018-C605.

The disposition of proceeds from the disposal of airport property will be in accordance with FAA's Policy and Procedures Concerning the Use of Airport Revenue, published in the Federal Register on February 16, 1999.

DATES: Comments must be received on or before February 27, 2006.

ADDRESSES: Documents are available for review by appointment by contacting Mr. David Bush, Assistant Airport Director, Manchester Airport, One Airport Road, Manchester, New Hampshire, Telephone 603-624-6539 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for pubic notice and comment to the “waiver” or “modification” of a sponsor's Federal obligation to use certain airport property for aeronautical purposes.

Issued in Burlington, Massachusetts on January 12, 2006.
LaVerne F. Reid,
Manager, Airports Division, New England Region.

[FR Doc. 06-724 Filed 1-25-06; 8:45 am]

BILLING CODE 4910-13-M